DEPARTMENT OF THE INTERIOR

Fish and Wildlife Service

[FWS-R4-R-2008-N0248; 40136-1265-0000-S3]

Alligator River National Wildlife Refuge

AGENCY: Fish and Wildlife Service, Interior.

ACTION: Notice of availability of the Final Comprehensive Conservation Plan and Finding of No Significant Impact for Alligator River National Wildlife Refuge in Manteo, North Carolina.

SUMMARY: The Fish and Wildlife Service announces that a Final Comprehensive Conservation Plan and Finding of No Significant Impact for Alligator River National Wildlife Refuge is available for distribution. The plan was prepared pursuant to the National Wildlife Refuge System Improvement Act of 1997, and in accordance with the National Environmental Policy Act of 1969, and describes how the refuge will be managed for the next 15 years. The compatibility determinations for hunting, fishing, wildlife observation and photography, environmental education and interpretation, and trapping of selected furbearers are also available in the plan.

ADDRESSES: A copy of the plan may be obtained by writing to the Alligator River National Wildlife Refuge, P.O. Box 1969, Manteo, North Carolina 27954. The plan may also be accessed and downloaded from the Service's Web site: http://southeast.fws.gov/planning/.

SUPPLEMENTARY INFORMATION: The availability of the Draft Comprehensive Conservation Plan and Environmental Assessment for a 45-day public review and comment period was announced in the Federal Register on May 30, 2006 (71 FR 30687). The plan and environmental assessment identified and evaluated three alternatives for managing the refuge over the next 15 years. Alternative 1, the no-action alternative, would have continued current management of the refuge. Alternative 3 would have resulted in substantial program increases.

Based on the environmental assessment and the comments received, the Service adopted Alternative 2 as its preferred alternative. Alternative 2 directs the development of programs to best achieve the refuge purpose and goals; emphasizes wildlife conservation as our highest priority in refuge management; collects habitat and wildlife data; and ensures long-term achievement of refuge and Service objectives. At the same time, these management actions provide balanced levels of compatible public use opportunities consistent with existing laws, Service policies, and sound biological principles. Alternative 2 provides the best mix of program elements to achieve desired long-term conditions.

Under this alternative, all lands under the management and direction of the refuge will be protected, maintained, and enhanced to best achieve national, ecosystem, and refuge-specific goals and objectives within anticipated funding and staffing levels. In addition, the action positively addresses significant issues and concerns expressed by the public.

Alligator River National Wildlife Refuge is located in Dare and Hyde Counties, North Carolina, about 3.5 hours east of Raleigh and 1.5 hours south of the Virginia line. The refuge covers a total of 153,017 acres within the 239,800-acre acquisition boundary and occupies the eastern-most portion of the Albemarle-Pamlico Peninsula in eastern North Carolina. The refuge is the lead refuge in the North Carolina Coastal Plain Refuge Complex and consists of a variety of habitats, including forested wetlands, shrub wetlands, agricultural lands, moist-soil areas, open waters, dirt/gravel access roads and trails, and recently reforested areas. Annually, more than 35,000 people visit the refuge.

FOR FURTHER INFORMATION CONTACT: Bonnie Strawser, Wildlife Interpretive Specialist, Alligator River National Wildlife Refuge; telephone: 252-473-1131; fax: 252-473-1668; e-mail: bonnie_strawser@fws.gov; or by writing to the Alligator River National Wildlife Refuge at the address in the ADDRESSES section.

Authority: This notice is published under the authority of the National Wildlife Refuge System Improvement Act of 1997, Public Law 105-57.

Dated: March 30, 2007.
Cynthia K. Dohner,
Acting Regional Director.

Editorial Note: This document was received in the Office of the Federal Register on September 5, 2008.

[FR Doc. E8-20974 Filed 9-9-08; 8:45 am]

BILLING CODE 4310-55-P